DEPARTMENT OF COMMERCE

International Trade Administration

[A-583-830]

Preliminary Rescission of Antidumping Duty Administrative Review: Stainless Steel Plate in Coils from Taiwan

AGENCY: Import Administration, International Trade Administration, Department of Commerce.

ACTION: Notice of the Preliminary Rescission of Antidumping Duty Administrative Review of Stainless Steel Plate in Coils from Taiwan.

SUMMARY: On June 25, 2002, the Department of Commerce (“Department”) published a notice of initiation of an antidumping duty administrative review on stainless steel plate in coils from Taiwan. See Notice of Initiation of Antidumping and Countervailing Duty Administrative Reviews and Request for Revocation in Part (“Notice of Initiation”) 67 FR 42753 (June 25, 2002). This review covers two manufacturers/exporters of the subject merchandise, Yieh United Steel Corporation (“YUSCO”), a Taiwan producer and exporter of subject merchandise, and Ta Chen Stainless Pipe Co., Ltd. (“Ta Chen”), a Taiwan producer and exporter of subject merchandise. The period of review (“POR”) is May 1, 2001 through April 30, 2002. We are preliminarily rescinding this review based on evidence on the record indicating that there were no entries into the United States of subject merchandise during the POR from the respondents.

EFFECTIVE DATE: June 4, 2003.

FOR FURTHER INFORMATION CONTACT: Catherine Bertrand, Enforcement Group III, Office 9, Import Administration, International Trade Administration, U.S. Department of Commerce, 1401 Constitution Avenue, NW, Washington, DC 20230, telephone 202-482-3207.

SUPPLEMENTARY INFORMATION:

Background

On May 21, 1999, the Department of Commerce (“Department”) published the antidumping duty order on stainless steel plate in coils from Taiwan. See Antidumping Duty Orders; Certain Stainless Steel Plate in Coils From Belgium, Canada, Italy, the Republic of Korea, South Africa, and Taiwan, 64 FR 27756 (May 21, 1999). On May 6, 2002, the Department published a notice of opportunity to request an administrative review of this order for the period May 1, 2001 through April 30, 2002. See Notice of Opportunity to Request Administrative Review of Antidumping or Countervailing Duty Order, Finding, or Suspended Investigation, 67 FR 30356 (May 6, 2002). On May 7, 2002, Petitioners¹ timely requested that the Department conduct an administrative review of sales by YUSCO, a Taiwan producer and exporter of subject merchandise, and Ta Chen, a Taiwan producer and exporter of subject merchandise. On June 25, 2002, in accordance with section 751(a) of the Tariff Act of 1930 as amended (“the Act”), the Department published in the Federal Register a notice of initiation of this antidumping duty administrative review of sales by YUSCO and Ta Chen for the period May 1, 2001 through April 30, 2002. See Notice of Initiation.

¹ Allegheny Ludlum, AK Steel Corporation, Butler Armco Independent Union, United Steelworkers of America, AFL-CIO/CLC, and Zanesville Armco Independent Organization are collectively “Petitioners” for this review.

On July 10, 2002, the Department issued its antidumping duty questionnaire to YUSCO and Ta Chen. On July 15, 2002, Ta Chen stated that it did not have any U.S. sales, shipments or entries of subject merchandise during the POR, and requested that it not be required to answer the Department's questionnaire. On July 18, 2002, YUSCO stated that it did not have any U.S. sales, shipments or entries of subject merchandise during the POR. On October 8, 2002, we sent an inquiry to the U.S. Customs Service (as of March 1, 2003, renamed the U.S. Bureau of Customs and Border Protection) (“BCBP”) to confirm that YUSCO and Ta Chen had no shipments of subject merchandise into the United States during the POR. On October 29, 2002, BCBP responded to the inquiry. BCBP determined that there were no entries of subject merchandise by Ta Chen during the POR. However, BCBP informed the Department that potential shipment(s) of subject merchandise from YUSCO to the United States during the POR existed. On January 15, 2003, the Department requested that YUSCO explain the potential shipment(s). See letter from the Department to YUSCO, dated January 15, 2003. On January 16, 2003, Petitioners requested that the Department place the proprietary information regarding the potential shipment(s) on the record. See Petitioners letter to the Department, dated January 16, 2003. On January 22, 2003, YUSCO informed the Department that it would like the Department to place proprietary information on the record so that YUSCO may be able to identity the potential shipment(s). See YUSCO's letter to the Department, dated January 22, 2003. On January 27, 2003, the Department placed certain proprietary information on the record regarding the potential shipment(s) of subject merchandise from YUSCO. See Department's letter to YUSCO, dated January 27, 2003. Additionally, during the months of January and February 2003, the Department contacted BCBP to confirm that no shipments from Ta Chen entered the United States during the POR. During that time, BCBP provided the Department with information regarding the potential Ta Chen shipments. See Department's letter to BCBP on February 3, 2003, and Memorandum to the File on February 25, 2003, in which the Department determined that each potential shipment from Ta Chen that we analyzed was not subject merchandise.

On February 5, 2003, we extended the preliminary results by sixty days. See Notice of Extension of Time Limit for the Preliminary Results of Antidumping Duty Administrative Review, 68 FR 5869 (February 5, 2003). On March 21, 2003, we extended the preliminary results by sixty days. See Notice of Extension of Time Limit for the Preliminary Results of Antidumping Duty Administrative Review, 68 FR 13897 (March 21, 2003).

On February 11, 2003, the Department sent BCBP a letter to inquire about a possible discrepancy in the documentation sent to the Department by BCBP relating to YUSCO and the existence/non-existence of entries of subject merchandise during the POR. On March 19, 2003, BCBP sent the Department a response to its February 11, 2003 letter, in which BCBP stated that it was re-classifying the material in question and that, upon review of its records, it no longer considered the material to be subject merchandise.

Petitioners have placed various submissions on the record alleging that Ta Chen and YUSCO are affiliated with other companies that may have shipped subject merchandise to the United States during the POR. Respondent YUSCO has denied Petitioner's allegations. See e.g., Petitioners' March 30, 2003 and Respondent's April 16, 2003 submissions.

Scope of the Review

For purposes of this review, the product covered is certain stainless steel plate in coils. Stainless steel is an alloy steel containing, by weight, 1.2 percent or less of carbon and 10.5 percent or more of chromium, with or without other elements. The subject plate products are flat-rolled products, 254 mm or over in width and 4.75 mm or more in thickness, in coils, and annealed or otherwise heat treated and pickled or otherwise descaled. The subject plate may also be further processed (e.g., cold-rolled, polished, etc.) provided that it maintains the specified dimensions of plate following such processing. Excluded from the scope of this review are the following: (1) Plate not in coils, (2) plate that is not annealed or otherwise heat treated and pickled or otherwise descaled, (3) sheet and strip, and (4) flat bars. In addition, certain cold-rolled stainless steel plate in coils is also excluded from the scope of these orders. The excluded cold-rolled stainless steel plate in coils is defined as that merchandise which meets the physical characteristics described above that has undergone a cold-reduction process that reduced the thickness of the steel by 25 percent or more, and has been annealed and pickled after this cold reduction process. The merchandise subject to this review is currently classifiable in the HTS at subheadings: 7219.11.00.30, 7219.11.00.60, 7219.12.00.05, 7219.12.00.20, 7219.12.00.25, 7219.12.00.50, 7219.12.00.55, 7219.12.00.65, 7219.12.0070, 7219.12.00.80, 7219.31.00.10, 7219.90.00.10, 7219.90.00.20, 7219.90.00.25, 7219.90.00.60, 7219.90.00.80, 7220.11.00.00, 7220.20.10.10, 7220.20.10.15, 7220.20.10.60, 7220.20.10.80, 7220.20.60.05, 7220.20.60.10, 7220.20.60.15, 7220.20.60.60, 7220.20.60.80, 7220.90.00.10, 7220.90.00.15, 7220.90.00.60, and 7220.90.00.80. Although the HTS subheadings are provided for convenience and BCBP purposes, the written description of the merchandise under investigation is dispositive.

Period of Review

The POR is May 1, 2001 through April 30, 2002.

Preliminary Rescission of Review in Part

Pursuant to 19 CFR 351.213(d)(3), the Department may rescind an administrative review, in whole or with respect to a particular exporter or producer, if the Secretary concludes that, during the period covered by the review, there were no entries, exports, or sales of the subject merchandise. Both Ta Chen and YUSCO certified on the record that they did not export subject merchandise to the United States during the POR. The Department then conducted a BCBP inquiry and pursued additional questions following the BCBP inquiry pertaining to Ta Chen and YUSCO. In response to our requests, BCBP supplied further information to the Department. For Ta Chen, all the documentation provided to the Department by BCBP indicates that there were no shipments of subject merchandise during the POR. See Memorandum to the File dated February 25, 2003.

Petitioners allege Ta Chen was affiliated with other Taiwanese companies during the POR. See Petitioners submission to the Department, dated April 4, 2003. Absent entries of subject merchandise produced and exported to the Unites States by Ta Chen during the POR, however, the Department has preliminarily determined to rescind this administrative review. See Memorandum to the File on February 25, 2003. The parties being reviewed in this case are Ta Chen and YUSCO, not the other parties which have been alleged to be affiliated with Ta Chen and YUSCO. Neither the Petitioners nor any other party requested an administrative review of Ta Chen's alleged affiliates. As it is, Ta Chen has been found preliminarily to have exported no subject merchandise to the Unites States during the POR. Therefore, absent entries, there is no reason for the Department to conduct an affiliation analysis. If the Petitioners believe other parties potentially affiliated with Ta Chen and YUSCO are exporting subject merchandise to the United States, then a review in subsequent periods of reviews for those companies should be requested. However, for purposes of this administrative review, the Department preliminarily finds that Ta Chen had no entries of subject merchandise in the United States during the POR. See 19 CFR 351.213(b) providing that the domestic industry must specify the exporter or producer it wishes the Department to review in its request for an administrative review.

For YUSCO, the Department found a discrepancy in the BCBP database and contacted BCBP on this matter. BCBP agreed that a discrepancy existed and resolved it. See BCBP letter to Edward Yang from Alfred Morawski, placed on the record of this proceeding on March 20, 2003. As a result of BCBP's efforts, the BCBP's database now confirms that YUSCO had no shipments of subject merchandise to the Unites States during the POR.

Petitioners provided affiliation arguments for YUSCO as well, but again, absent entries to the United States by YUSCO during the POR, the Department has preliminarily determined to rescind this administrative review. Petitioners did not request a review of the alleged affiliated parties. Had they made such an allegation, we would have conducted a review accordingly. The record indicates YUSCO had no entries to the United States of subject merchandise during the POR. Thus, the Department has preliminarily determined to rescind this administrative review. See 19 CFR 351.213(b).

As discussed above, in this case the Department is satisfied, after a review of information on the record, certification from YUSCO and Ta Chen of no exports to the United States during the POR, the inquiry on data from BCBP, and further communications with BCBP, that there were no entries of stainless steel plate in coils produced or exported from Ta Chen or YUSCO during the POR to the United States. Therefore, the Department is preliminarily rescinding this administrative review. The cash deposit rate for YUSCO will remain at 8.02 percent, for Ta Chen the cash deposit rate will remain at 10.20 percent, and for “all other” producers/exporters of the subject merchandise the cash deposit rate will remain at 7.39 percent, the rates established in the most recently completed segment of this proceeding. See Notice of Final Results and Rescission in Part of Antidumping Duty Administrative Review: Stainless Steel Plate in Coils From Taiwan, 67 FR 40914 (June 14, 2002).

Pursuant to 19 CFR 351.309, interested parties may submit written comments in response to this preliminary rescission. Case briefs must be submitted within 30 days after the date of publication of this notice and rebuttal briefs, limited to arguments raised in the case briefs, must be submitted no later than 7 days after the time limit for filing case briefs. Case and rebuttal briefs must be served on interested parties in accordance with 19 CFR 351.303(f).

This administrative review and notice is published in accordance with sections 751(a)(1) and 777(i)(1) of the Act.

Dated: May 27, 2003.
Joseph A. Spetrini,
Acting Assistant Secretary for Import Administration.

[FR Doc. 03-14039 Filed 6-3-02; 8:45 am]

BILLING CODE 3510-DS-S